DEPARTMENT OF HOMELAND SECURITY

Federal Emergency Management Agency

[Docket ID FEMA-2015-0001; Internal Agency Docket No. FEMA-B-1555]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: January 5, 2016.
Roy E. Wright,
Deputy Associate Administrator for Insurance and Mitigation, Department of Homeland Security, Federal Emergency Management Agency.

State and county | Location and case No. | Chief executive officer of community | Community map repository | Online location of letter of map revision | Effective date of modification | Community No.
Arkansas:
Benton | City of Rogers (15-06-2115P) | The Honorable Greg Hines, Mayor, City of Rogers, 301 West Chestnut Street, Rogers, AR 72756 | Planning Department, 301 West Chestnut Street, Rogers, AR 72756 | http://www.msc.fema.gov/lomc | Mar. 9, 2016 | 050013
Benton | Unincorporated areas of Benton County (15-06-2411P) | The Honorable Robert D. Clinard, Benton County Judge, 215 East Central Avenue, Bentonville, AR 72712 | Benton County Planning Department, 905 Northwest 8th Street, Bentonville, AR 72712 | http://www.msc.fema.gov/lomc | Feb. 18, 2016 | 050419
Van Buren | City of Clinton (15-06-3659P) | The Honorable Richard McCormac, Mayor, City of Clinton, P.O. Box 970, Clinton, AR 72031 | City Hall, 342 Main Street, Clinton, AR 72031 | http://www.msc.fema.gov/lomc | Mar. 4, 2016 | 050211
Van Buren | Unincorporated areas of Van Buren County (15-06-3659P) | The Honorable Roger Hooper, Van Buren County Judge, P.O. Box 60, Clinton, AR 72031 | Van Buren County Clerk's Office, 1414 Highway 65 South, Clinton, AR 72031 | http://www.msc.fema.gov/lomc | Mar. 4, 2016 | 050566
Colorado:
Adams | City of Commerce City (15-08-0897P) | The Honorable Sean Ford, Mayor, City of Commerce City, 7887 East 60th Avenue, Commerce City, CO 80022 | City Hall, 7887 East 60th Avenue, Commerce City, CO 80022 | http://www.msc.fema.gov/lomc | Mar. 16, 2016 | 080006
Douglas | Town of Castle Rock (16-08-0036P) | The Honorable Paul Donahue, Mayor, Town of Castle Rock, 100 North Wilcox Street, Castle Rock, CO 80104 | Utilities Department, 175 Kellogg Court, Castle Rock, CO 80109 | http://www.msc.fema.gov/lomc | Mar. 18, 2016 | 080050
Douglas | Unincorporated areas of Douglas County (16-08-0036P) | The Honorable Jill Repella, Chair, Douglas County Board of Commissioners, 100 3rd Street, Castle Rock, CO 80104 | Douglas County Public Works Department, 100 3rd Street, Castle Rock, CO 80104 | http://www.msc.fema.gov/lomc | Mar. 18, 2016 | 080049
El Paso | City of Colorado Springs (15-08-0401P) | The Honorable John Suthers, Mayor, City of Colorado Springs, 30 South Nevada Avenue, Suite 601, Colorado Springs, CO 80901 | City Hall, 30 South Nevada Avenue, Colorado Springs, CO 80901 | http://www.msc.fema.gov/lomc | Mar. 7, 2016 | 080060
Jefferson | City of Lakewood (15-08-1099P) | The Honorable Bob Murphy, Mayor, City of Lakewood, Civic Center South, 480 South Allison Parkway, Lakewood, CO 80226 | Public Works Department, Civic Center North, 480 South Allison Parkway, Lakewood, CO 80226 | http://www.msc.fema.gov/lomc | Mar. 18, 2016 | 085075
Florida:
Alachua | City of Gainesville (15-04-1786P) | The Honorable Ed Braddy, Mayor, City of Gainesville, P.O. Box 490, Station 19, Gainesville, FL 32627 | Public Works Department, 405 Northwest 39th Avenue, Gainesville, FL 32601 | http://www.msc.fema.gov/lomc | Mar. 7, 2016 | 125107
Broward | City of Pompano Beach (15-04-7602P) | The Honorable Lamar Fisher, Mayor, City of Pompano Beach, 100 West Atlantic Boulevard, Pompano Beach, FL 33060 | Building Department, 100 West Atlantic Boulevard, Pompano Beach, FL 33060 | http://www.msc.fema.gov/lomc | Mar. 9, 2016 | 120055
Manatee | Town of Longboat Key (15-04-6557P) | The Honorable Jack Duncan, Mayor, Town of Longboat Key, 501 Bay Isles Road, Longboat Key, FL 34228 | Town Hall, 501 Bay Isles Road, Longboat Key, FL 34228 | http://www.msc.fema.gov/lomc | Mar. 2, 2016 | 125126
Monroe | City of Marathon (15-04-9118P) | The Honorable Chris Bull, Mayor, City of Marathon, 9805 Overseas Highway, Marathon, FL 33050 | Planning Department, 9805 Overseas Highway, Marathon, FL 33050 | http://www.msc.fema.gov/lomc | Mar. 3, 2016 | 120681
Monroe | Unincorporated areas of Monroe County (15-04-9119P) | The Honorable Danny Kolhage, Mayor, Monroe County Board of Commissioners, 530 Whitehead Street, Suite 102, Key West, FL 33040 | Monroe County Building Department, 2798 Overseas Highway, Suite 300, Marathon, FL 33050 | http://www.msc.fema.gov/lomc | Mar. 3, 2016 | 125129
Orange | City of Orlando (15-04-7419P) | The Honorable Buddy W. Dyer, Mayor, City of Orlando, P.O. Box 4990, Orlando, FL 32802 | Public Works Department, 400 South Orange Avenue, 8th Floor, Orlando, FL 32801 | http://www.msc.fema.gov/lomc | Mar. 7, 2016 | 120186
Orange | Unincorporated areas of Orange County (15-04-7419P) | The Honorable Teresa Jacobs, Mayor, Orange County, 201 South Rosalind Avenue, 5th Floor, Orlando, FL 32801 | Orange County Stormwater Management Division, 4200 South John Young Parkway, Orlando, FL 32839 | http://www.msc.fema.gov/lomc | Mar. 7, 2016 | 120179
St. Johns | Unincorporated areas of St. Johns County (15-04-7215P) | The Honorable Rachael L. Bennett, Chair, St. Johns County Board of Commissioners, 500 San Sebastian View, St. Augustine, FL 32084 | St. Johns County Transportation Development Division, 4040 Lewis Speedway, St. Augustine, FL 32084 | http://www.msc.fema.gov/lomc | Mar. 8, 2016 | 125147
Georgia:
Barrow | Unincorporated areas of Barrow County (15-04-9030P) | The Honorable Pat Graham, Chairman, Barrow County Board of Commissioners, 30 North Broad Street, Winder, GA 30680 | Barrow County Geographic Information System Division, 233 East Broad Street, Winder, GA 30680 | http://www.msc.fema.gov/lomc | Mar. 14, 2016 | 130497
Kentucky:
Fayette | Lexington-Fayette Urban County Government (15-04-0907P) | The Honorable Jim Gray, Mayor, Lexington-Fayette Urban County Government, 200 East Main Street, Lexington, KY 40507 | Engineering Division, 101 East Vine Street, 4th Floor, Lexington, KY 40507 | http://www.msc.fema.gov/lomc | Mar. 3, 2016 | 210067
Maryland:
Carroll | Town of Mount Airy (15-03-2575P) | The Honorable Patrick T. Rockinberg, Mayor, Town of Mount Airy, P.O. Box 50, Mount Airy, MD 21771 | Town Hall, 110 South Main Street, Mount Airy, MD 21771 | http://www.msc.fema.gov/lomc | Mar. 11, 2016 | 240200
Carroll | Town of Sykesville (15-03-2575P) | The Honorable Ian Shaw, Mayor, Town of Sykesville, 7547 Main Street, Sykesville, MD 21784 | Town Hall, 7547 Main Street, Sykesville, MD 21784 | http://www.msc.fema.gov/lomc | Mar. 11, 2016 | 240016
Carroll | Unincorporated areas of Carroll County (15-03-2575P) | The Honorable J. Douglas Howard, President, Carroll County Board of Commissioners, 225 North Center Street, Westminster, MD 21157 | Carroll County Office Building, 225 North Center Street, Westminster, MD 21157 | http://www.msc.fema.gov/lomc | Mar. 11, 2016 | 240015
New York:
Rockland | Town of Clarkstown (15-02-0462P) | The Honorable Alexander J. Gromack, Supervisor, Town of Clarkstown, 10 Maple Avenue, New City, NY 10956 | Town Hall, 10 Maple Avenue, New City, NY 10956 | http://www.msc.fema.gov/lomc | Apr. 19, 2016 | 360679
North Carolina:
Forsyth | Village of Clemmons (15-04-7692P) | The Honorable Nickolas Nelson, Mayor, Village of Clemmons, 3715 Clemmons Road, Clemmons, NC 27012 | Village Hall, 3715 Clemmons Road, Clemmons, NC 27012 | http://www.msc.fema.gov/lomc | Mar. 18, 2016 | 370531
Forsyth | City of Winston-Salem (15-04-7692P) | The Honorable Allen Joines, Mayor, City of Winston-Salem, P.O. Box 2511, Winston-Salem, NC 27102 | Inspections Department, 100 East 1st Street, Suite 328, Winston-Salem, NC 27101 | http://www.msc.fema.gov/lomc | Mar. 18, 2016 | 375360
Forsyth | Unincorporated areas of Forsyth County (15-04-7692P) | The Honorable David R. Plyler, Chairman, Forsyth County Board of Commissioners, 201 North Chestnut Street, Winston-Salem, NC 27101 | Forsyth County Planning Board Office, 100 East 1st Street, Winston-Salem, NC 27101 | http://www.msc.fema.gov/lomc | Mar. 18, 2016 | 375349
Pennsylvania:
Bradford | Borough of Towanda (14-03-3276P) | The Honorable Paul Sweitzer, President, Borough of Towanda Council, 724 Main Street, Towanda, PA 18848 | Municipal Building, 724 Main Street, Towanda, PA 18848 | http://www.msc.fema.gov/lomc | Feb. 25, 2016 | 420178
Lycoming | Borough of South Williamsport (15-03-2159P) | The Honorable David J. Lechniak, Mayor, Borough of South Williamsport, 329 West Southern Avenue, South Williamsport, PA 17702 | Borough Hall, 329 West Southern Avenue, South Williamsport, PA 17702 | http://www.msc.fema.gov/lomc | Mar. 11, 2016 | 420658
South Carolina:
Charleston | City of Folly Beach (15-04-5698P) | The Honorable Tim Goodwin, Mayor, City of Folly Beach, 21 Center Street, 2nd Floor, Folly Beach, SC 29439 | Building Services and Facilities Management Department, 21 Center Street, Folly Beach, SC 29439 | http://www.msc.fema.gov/lomc | Mar. 3, 2016 | 455415
Charleston | Unincorporated areas of Charleston County (15-04-5698P) | The Honorable J. Elliot Summey, Chairman, Charleston County Board of Commissioners, District 3, 4045 Bridgeview Drive, Suite B254, North Charleston, SC 29405 | Charleston County Building Inspection Services Department, 4045 Bridge View Drive, Suite A-113, North Charleston, SC 29405 | http://www.msc.fema.gov/lomc | Mar. 3, 2016 | 455413
Charleston | Town of Mount Pleasant (15-04-9379P) | The Honorable Linda Page, Mayor, Town of Mount Pleasant, 100 Ann Edwards Lane, Mount Pleasant, SC 29464 | Planning and Development Department, 100 Ann Edwards Lane, Mount Pleasant, SC 29464 | http://www.msc.fema.gov/lomc | Mar. 18, 2016 | 455417
South Dakota:
Lawrence | City of Spearfish (15-08-1218P) | The Honorable Dana Boke, Mayor, City of Spearfish, 625 5th Street, Spearfish, SD 57783 | City Hall, 625 5th Street, Spearfish, SD 57783 | http://www.msc.fema.gov/lomc | Mar. 2, 2016 | 460046
Tennessee:
Maury | City of Spring Hill (15-04-6306P) | The Honorable Rick Graham, Mayor, City of Spring Hill, 199 Town Center Parkway, Spring Hill, TN 37174 | Building Codes and Inspection Department, 199 Town Center Parkway, Spring Hill, TN 37174 | http://www.msc.fema.gov/lomc | Mar. 7, 2016 | 470278
Texas:
Bexar | City of San Antonio (15-06-1357P) | The Honorable Ivy R. Taylor, Mayor, City of San Antonio, P.O. Box 839966, San Antonio, TX 78283 | Transportation and Capital Improvements Department, 1901 South Alamo Street, 2nd Floor, San Antonio, TX 78204 | http://www.msc.fema.gov/lomc | Mar. 9, 2016 | 480045
Bexar | Unincorporated areas of Bexar County (15-06-1355P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | Mar. 9, 2016 | 480035
Bexar | Unincorporated areas of Bexar County (15-06-1357P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | http://www.msc.fema.gov/lomc | Mar. 9, 2016 | 480035
Brazoria and Harris | City of Pearland (15-06-2038P) | The Honorable Tom Reid, Mayor, City of Pearland, 3519 Liberty Drive, Pearland, TX 77581 | Engineering Division, 3519 Liberty Drive, Pearland, TX 77581 | http://www.msc.fema.gov/lomc | Mar. 18, 2016 | 480077
El Paso | Unincorporated areas of El Paso County (15-06-0888P) | The Honorable Veronica Escobar, El Paso County Judge, 500 East San Antonio Street, Suite 301, El Paso, TX 79901 | El Paso County Administrative Offices, 800 East Overland, Suite 407, El Paso, TX 79901 | http://www.msc.fema.gov/lomc | Mar. 7, 2016 | 480212
Midland | City of Midland (15-06-2420P) | The Honorable Jerry Morales, Mayor, City of Midland, 300 North Loraine Street, Midland, TX 79701 | City Hall, 300 North Loraine Street, Midland, TX 79701 | http://www.msc.fema.gov/lomc | Feb 3, 2016 | 480477
Parker | City of Aledo (15-06-1513P) | The Honorable Kit Marshall, Mayor, City of Aledo, P.O. Box 1, Aledo, TX 76008 | City Hall, 200 Old Annetta Road, Aledo, TX 76008 | http://www.msc.fema.gov/lomc | Feb 25, 2016 | 481659
Parker | Unincorporated areas of Parker County (15-06-1513P) | The Honorable Mark Riley, Parker County Judge, 1 Courthouse Square, Weatherford, TX 76086 | Parker County Emergency Management Department, 215 Trinity Street, Weatherford, TX 76086 | http://www.msc.fema.gov/lomc | Feb 25, 2016 | 480520
Virginia:
Fairfax | Unincorporated areas of Fairfax County (15-03-1477P) | The Honorable Edward L. Long, Jr., Fairfax County Executive, 12000 Government Center Parkway, Fairfax, VA 22035 | Fairfax County Planning and Zoning Department, 12000 Government Center Parkway, Fairfax, VA 22035 | http://www.msc.fema.gov/lomc | Mar. 2, 2016 | 515525
Independent City | City of Virginia Beach (15-03-0388P) | The Honorable William D. Sessoms, Jr., Mayor, City of Virginia Beach, 2401 Courthouse Drive, Virginia Beach, VA 23456 | Department of Public Works, 2405 Courthouse Drive, Virginia Beach, VA 23456 | http://www.msc.fema.gov/lomc | Feb 29, 2016 | 515531
Loudoun | Unincorporated areas of Loudoun County (15-03-2037P) | The Honorable Scott K. York, Chairman at Large, Loudoun County Board of Supervisors, P.O. Box 7000, Mailstop #01, Leesburg, VA 20177 | Loudoun County Planning and Zoning Department, P.O. Box 7000, Mailstop #62, Leesburg, VA 20177 | http://www.msc.fema.gov/lomc | Mar. 17, 2016 | 510090

[FR Doc. 2016-00861 Filed 1-15-16; 8:45 am]

BILLING CODE 9110-12-P